DEPARTMENT OF COMMERCE

Census Bureau

Agency Information Collection Activities; Submission to the Office of Management and Budget (OMB) for Review and Approval; Comment Request; Current Population Survey, Annual Social and Economic (ASEC) Survey

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register (83 FR 42252) on August 21, 2018, during a 60-day comment period. This notice allows for an additional 30 days for public comments.

Agency: U.S. Census Bureau.

Title: Current Population Survey, Annual Social and Economic Survey.

OMB Control Number: 0607-0354.

Form Number(s): None.

Type of Request: Regular submission, Request for Non-Substantive Change to a Currently Approved Information Collection.

Number of Respondents: 78,000.

Average Hours per Response: 25 minutes.

Burden Hours: 32,500.

Needs and Uses: Information on work experience, personal income, noncash benefits, current and previous year health insurance coverage, employer-sponsored insurance take-up, and migration is collected through the ASEC. The income data from the ASEC are used by social planners, economists, government officials, and market researchers to gauge the economic well-being of the country as a whole, and selected population groups of interest. This request is to add four questions to the ASEC. The added questions will assist researchers to evaluate the impact of governmental assistance programs on economic well-being, particularly for the Supplemental Poverty Measure (SPM).

• If children in the household are reported to have received school meals, a new follow-up question asks:

○ Did your children continue receiving free/reduced price meals through your school or school district if schools were closed during the Coronovirus-COVID-19 pandemic?”

Given widespread school closings in response to the COVID-19 pandemic, many school districts have shifted to alternative ways to distribute free school meals to children. However, the ability for families to take up these programs likely varies in ways that cannot be uniformly predicted, so adding a follow-up question about receipt of school meals during school closures helps to improve data quality on the market value of these benefits.

• Three new questions regarding stimulus payments are added for all households.

○ During 2020, did you or anyone receive any stimulus payments or payments received from the Department of the Treasury due to the Coronavirus Covid-19 pandemic?

○ Who was the stimulus payment for?

○ What was the amount of the stimulus payment you received for all covered adults and children in the household?

Stimulus payment information will allow researchers to estimate the amount of such payments received by households. The coronavirus stimulus payments disbursed in 2020 were based on income from 2018 or 2019, making it nearly impossible to model with only the 2020 income. This information will provide accurate data on stimulus payments received to properly estimate after-tax income for the SPM.

Affected Public: Individuals or households.

Frequency: Annually.

Respondent's Obligation: Voluntary.

Legal Authority: Title 13, United States Code, Sections 141, and 182; and Title 29, United States Code, Section 2 authorize the Census Bureau to collect this information.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0607-0354.

Sheleen Dumas,
Department PRA Clearance Officer, Office of the Chief Information Officer, Commerce Department.

[FR Doc. 2020-23634 Filed 10-23-20; 8:45 am]

BILLING CODE 3510-07-P